DEPARTMENT OF STATE

[Public Notice 3506]

Bureau of Consular Affairs; Designation of Certain Posts for Special Fee Payment Procedures

This public notice identifies the initial ten posts designated by the Deputy Assistant Secretary for Visa Services for two purposes related to the payment of immigrant visa fees. The first purpose relates to the revised procedure for payment of the fee for the processing of an application for an immigrant visa set forth in the Federal Register on September 8, 2000, (65 FR 54598). That regulation is being stayed in a public notice today until a new effective date of January 1, 2001.

The second purpose is to identify the posts for which a fee pursuant to Item 61 of the Schedule of Fees for Consular Services (22 CFR 22.1) will be assessed for advance review of and assistance with the Affidavit of Support that is required in certain immigrant visa cases. Notice of this fee requirement is being added to the visa regulation pertaining to the Affidavit of Support requirement in 22 CFR 40.41(b), being published today with an effective date of January 1, 2001.

The Department will publish further public notices as additional designations are made, until such time as both procedures have been made applicable worldwide.

The Deputy Assistant Secretary for Visa Services hereby designates the Foreign Service posts in the following cities: for participation in the initial stage of the new immigrant visa application processing fee payment system and the fee for review of and assistance with the Affidavit of Support required under section 213A of the Immigration and Nationality Act

Bogota, Colombia

Ciudad Juarez, Mexico

Freetown, Sierra Leone

Georgetown, Guyana

Guangzhou, China

Manila, Philippines

Montreal, Canada

Port au Prince, Haiti

Santo Domingo, Dominican Republic

Tirana, Albania.

Dated: November 28, 2000.
George C. Lannon,
Deputy Assistant Secretary for Visa Services.

[FR Doc. 00-31743 Filed 12-13-00; 8:45 am]

BILLING CODE 4710-06-P